DEPARTMENT OF TRANSPORTATION

Federal Aviation Administration

Notice of Request To Release Airport Land at the Gwinnett County Airport—Briscoe Field

AGENCY: Federal Aviation Administration (FAA), DOT.

ACTION: Notice.

SUMMARY: The FAA proposes to rule and invites public comment on the request to release .426 acres of federally obligated airport property at the Gwinnett County Airport.

DATES: Comments must be received on or before March 13, 2024.

ADDRESSES: Comments on this notice may be mailed or delivered in triplicate to the FAA to the following address: Atlanta Airports District Office Attn: Krishina Green, Planner, 1701 Columbia Ave., Suite 220, College Park, GA 30337.

In addition, one copy of any comments submitted to the FAA must be mailed or delivered to the Gwinnett County Airport Authority, Attn: Mr. Matt Smith, 600 Briscoe Blvd., Lawrenceville, GA 30046.

FOR FURTHER INFORMATION CONTACT: Krishina Green, Airport Planner, Atlanta Airports District Office, 1701 Columbia Ave., Suite 220, College Park, Georgia 30337-2747, (404) 305-6749. The application may be reviewed in person at this same location.

SUPPLEMENTARY INFORMATION: The FAA invites public comment on the request to release a parcel of land totaling 0.426 acres at the Gwinnett County Airport—Briscoe Field. The FAA determined this request to release submitted by the Sponsor meets the procedural requirements of the FAA and the release of the property does not and will not impact future aviation needs at the airport. The FAA may approve the request, in whole or in part, no sooner than thirty days after the publication of this notice.

Issued in Atlanta, Georgia, on February 6, 2024.
Joseph Parks Preston,
Manager, Atlanta Airports District Office, Southern Region.

[FR Doc. 2024-02792 Filed 2-9-24; 8:45 am]

BILLING CODE 4910-13-P